DEPARTMENT OF LABOR

Employment and Training Administration

[TA-W-39,987]

GSI Lumonics Corp., Maple Grove, MN; Notice of Revised Determination on Reconsideration

By letter of January 9, 2002, an employee requested administrative reconsideration regarding the Department=s Negative Determination Regarding Eligibility to Apply for Worker Adjustment Assistance, applicable to the workers of the subject firm.

The initial investigation resulted in a negative determination issued on December 17, 2001, based on the finding that imports did not contribute importantly to the layoffs at the subject plant. The denial notice was published in the Federal Register on January 11, 2002 (67 FR 1509).

The request for reconsideration is based on the allegation that specific products produced at the subject plant were shifted to Canada and England, and a meaningful portion of those products were imported back to the United States.

The Department on further review of the investigation and further contact with the company received new information revealing that shifts in plant production (SVS & Silver Cutting Head) to foreign sources occurred during the relevant period. A meaningful portion of that production shifted to foreign sources was imported back to the United States during the relevant period.

Conclusion

After careful review of the additional facts obtained on reconsideration, I conclude that increased imports of articles like or directly competitive with those produced at GSI Lumonics, Inc., Maple Grove, Minnesota contributed importantly to the declines in sales or production and to the total or partial separation of workers at the subject firm. In accordance with the provisions of the Act, I make the following certification:

All workers of GSI Lumonics, Inc., Maple Grove, Minnesota who became totally or partially separated from employment on or after August 21, 2000 through two years from the date of this certification, are eligible to apply for adjustment assistance under section 223 of the Trade Act of 1974.

Signed in Washington, DC, this 14th day of June, 2002.
Edward A. Tomchick,
Director, Division of Trade Adjustment Assistance.

[FR Doc. 02-18414 Filed 7-19-02; 8:45 am]

BILLING CODE 4510-30-P